DEPARTMENT OF ENERGY

Federal Energy Regulatory Commission

Combined Notice of Filings

Take notice that the Commission has received the following Natural Gas Pipeline Rate and Refund Report filings:

Filings Instituting Proceedings

Docket Numbers: RP12-206-000.

Applicants: Algonquin Gas Transmission, LLC.

Description: ConEd 2011-12-01 Releases #3 to be effective 12/1/2011.

Filed Date: 12/1/11.

Accession Number: 20111201-5112.

Comments Due: 5 p.m. ET 12/13/11.

Docket Numbers: RP12-207-000.

Applicants: Trailblazer Pipeline Company LLC.

Description: Negotiated Rate Filing—CIMA to be effective 12/2/2011.

Filed Date: 12/1/11.

Accession Number: 20111201-5119.

Comments Due: 5 p.m. ET 12/13/11.

Docket Numbers: RP12-208-000.

Applicants: MarkWest Pioneer, L.L.C.

Description: MarkWest Pioneer—Quarterly FRP Filing to be effective 1/1/2012.

Filed Date: 12/1/11.

Accession Number: 20111201-5147.

Comments Due: 5 p.m. ET 12/13/11.

Docket Numbers: RP12-209-000.

Applicants: ANR Pipeline Company.

Description: Dynamic Offshore Resources ITS Agreement to be effective 12/1/2011.

Filed Date: 12/1/11.

Accession Number: 20111201-5149.

Comments Due: 5 p.m. ET 12/13/11.

Docket Numbers: RP12-210-000.

Applicants: Gulf South Pipeline Company, LP.

Description: Total 37900-2 Amendment to Negotiated Rate Agreement Filing to be effective 12/1/2011.

Filed Date: 12/1/11.

Accession Number: 20111201-5150.

Comments Due: 5 p.m. ET 12/13/11.

Docket Numbers: RP12-211-000.

Applicants: Gas Transmission Northwest LLC.

Description: Gas Transmission Northwest LLC Annual Fuel Charge Adjustment Filing.

Filed Date: 12/1/11.

Accession Number: 20111201-5175.

Comments Due: 5 p.m. ET 12/13/11.

Docket Numbers: RP12-212-000.

Applicants: El Paso Natural Gas Company.

Description: Annual FL&U, to be effective 1/1/2012.

Filed Date: 12/1/11.

Accession Number: 20111201-5180.

Comments Due: 5 p.m. ET 12/13/11.

Docket Numbers: RP12-213-000.

Applicants: Equitrans, L.P.

Description: Equitrans, L.P. Notice of Operational Flow Order.

Filed Date: 12/1/11.

Accession Number: 20111201-5193.

Comments Due: 5 p.m. ET 12/13/11.

Docket Numbers: RP12-214-000.

Applicants: Colorado Interstate Gas Company LLC.

Description: Quarterly Lost, Unaccounted for and Other Fuel Gas Reimbursement Percentage (FL&U) of Colorado Interstate Gas Company LLC.

Filed Date: 12/1/11.

Accession Number: 20111201-5198.

Comments Due: 5 p.m. ET 12/13/11.

Docket Numbers: RP12-215-000.

Applicants: Steckman Ridge, LP.

Description: ROFR Cleanup to be effective 1/1/2012.

Filed Date: 12/1/11.

Accession Number: 20111201-5210.

Comments Due: 5 p.m. ET 12/13/11.

Docket Numbers: RP12-216-000.

Applicants: Egan Hub Storage, LLC.

Description: ROFR Cleanup to be effective 1/1/2012.

Filed Date: 12/1/11.

Accession Number: 20111201-5212.

Comments Due: 5 p.m. ET 12/13/11.

Docket Numbers: RP12-217-000.

Applicants: Iroquois Gas Transmission System, L.P.

Description: 12/01/11 Negotiated Rate—Freepoint Commodities, LLC to be effective 12/1/2011.

Filed Date: 12/1/11.

Accession Number: 20111201-5219.

Comments Due: 5 p.m. ET 12/13/11.

Docket Numbers: RP12-218-000.

Applicants: Iroquois Gas Transmission System, L.P.

Description: 12/01/11 Negotiated Rates—Conoco Phillips Company to be effective 12/1/2011.

Filed Date: 12/1/11.

Accession Number: 20111201-5220.

Comments Due: 5 p.m. ET 12/13/11.

Docket Numbers: RP12-219-000.

Applicants: Iroquois Gas Transmission System, L.P.

Description: 12/01/11 Negotiated Rates—Citigroup Energy Inc. to be effective 12/1/2011.

Filed Date: 12/2/11.

Accession Number: 20111202-5000.

Comments Due: 5 p.m. ET 12/14/11.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1942-001.

Applicants: Tennessee Gas Pipeline Company, L.L.C.

Description: Quality Interchangability—Settlement to be effective 1/1/2012.

Filed Date: 12/1/11.

Accession Number: 20111201-5151.

Comments Due: 5 p.m. ET 12/13/11.

Docket Numbers: RP12-134-001.

Applicants: Iroquois Gas Transmission System, L.P.

Description: 12/01/11 Negotiated Rates—Constellation Energy—Amendment to be effective 11/3/2011.

Filed Date: 12/1/11.

Accession Number: 20111201-5118.

Comments Due: 5 p.m. ET 12/13/11.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 2, 2011.
Nathaniel J. Davis, Sr.,
Deputy Secretary

[FR Doc. 2011-31487 Filed 12-7-11; 8:45 am]

BILLING CODE 6717-01-P